DEPARTMENT OF THE INTERIOR

National Park Service

[NPS-WASO-NAGPRA-NPS0038222; PPWOCRADN0-PCU00RP14.R50000]

Notice of Inventory Completion: U.S. Department of the Interior, National Park Service, Southeast Archeological Center, Tallahassee, FL

AGENCY: National Park Service, Interior.

ACTION: Notice.

SUMMARY: In accordance with the Native American Graves Protection and Repatriation Act (NAGPRA), the U.S. Department of the Interior, National Park Service, Southeast Archeological Center (SEAC, part of the Southeast Regional Office's Cultural Resources, Partnerships, and Science Division) has completed an inventory of human remains and associated funerary objects and has determined that there is a cultural affiliation between the human remains and associated funerary objects and Indian Tribes or Native Hawaiian organizations in this notice.

DATES: Repatriation of the human remains and associated funerary objects in this notice may occur on or after August 12, 2024.

ADDRESSES: Julie H. Ernstein, Division Manager, Cultural Resource Partnerships and Science Division, National Park Service, Interior Region 2: South Atlantic—Gulf, 100 Alabama Street SW, Atlanta, GA 30303, telephone (404) 909-2240, email julie_ernstein@nps.gov.

SUPPLEMENTARY INFORMATION: This notice is published as part of the National Park Service's administrative responsibilities under NAGPRA. The determinations in this notice are the sole responsibility of SEAC, and additional information on the determinations in this notice, including the results of consultation, can be found in the inventory or related records.

Abstract of Information Available

Based on the information available, human remains representing, at least, five individuals have been reasonably identified. The 153 associated funerary objects are three greenstone ceremonial celts, two quartz hammerstones, one pitted stone, four whetstones, one piece of petrified wood, four ceramic discs, three stone discs, 14 ceramic sherds, one elbow fragment of a biconical clay pipe, four bone awls, one antler tip, one flat faunal bone, 107 shell beads, one deer bone, three reconstructed ceramic pots, and three reconstructed ceramic water bottles.

On an unknown date prior to 1940, human remains and associated funerary objects were removed from Moundville in Hale and Tuscaloosa Counties, AL. These individuals and objects were collected or purchased by James Milton Mallory over an unknown period of time. The associated funerary objects were first inventoried on April 27, 1932, by the Alabama Museum of Natural History. Following Mr. Mallory's demise in 1940, the individuals and objects entered Works Projects Administration (WPA) collections and were later transferred to National Park Service collections after the WPA ceased in 1943.

Cultural Affiliation

Based on the information available and the results of consultation, cultural affiliation is reasonably identified by the geographical location or acquisition history of the human remains and associated funerary objects described in this notice.

Determinations

SEAC has determined that:

• The human remains described in this notice represent the physical remains of five individuals of Native American ancestry.

• The 153 objects described in this notice are reasonably believed to have been placed intentionally with or near individual human remains at the time of death or later as part of the death rite or ceremony.

• There is a reasonable connection between the human remains and associated funerary objects described in this notice and the Alabama-Coushatta Tribe of Texas; Alabama-Quassarte Tribal Town; Coushatta Tribe of Louisiana; Jena Band of Choctaw Indians; Kialegee Tribal Town; Miccosukee Tribe of Indians; Mississippi Band of Choctaw Indians; Poarch Band of Creek Indians; Seminole Tribe of Florida; The Chickasaw Nation; The Choctaw Nation of Oklahoma; The Muscogee (Creek) Nation; The Seminole Nation of Oklahoma; and the Thlopthlocco Tribal Town.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after August 12, 2024. If competing requests for repatriation are received, SEAC must determine the most appropriate requestor prior to repatriation. Requests for joint repatriation of the human remains and associated funerary objects are considered a single request and not competing requests. SEAC is responsible for sending a copy of this notice to the Indian Tribes and Native Hawaiian organizations identified in this notice.

Authority: Native American Graves Protection and Repatriation Act, 25 U.S.C. 3003, and the implementing regulations, 43 CFR 10.10.

Dated: June 26, 2024.
Melanie O'Brien,
Manager, National NAGPRA Program.

[FR Doc. 2024-15200 Filed 7-10-24; 8:45 am]

BILLING CODE 4312-52-P